DEPARTMENT OF COMMERCE

Foreign-Trade Zones Board

[Order No. 1310]

Expansion of Foreign-Trade Zone 2 New Orleans, LA

Pursuant to its authority under the Foreign-Trade Zones Act of June 18, 1934, as amended (19 U.S.C. 81a-81u), the Foreign-Trade Zones Board (the Board) adopts the following Order:

Whereas, the Board of Commissioners of the Port of New Orleans, grantee of Foreign-Trade Zone No. 2, submitted an application to the Board for authority to expand FTZ 2 in the New Orleans, Louisiana area, within the New Orleans Customs port of entry (FTZ Docket 50-2002, filed 11/6/2002; amended 2/3/03);

Whereas, notice inviting public comment was given in the Federal Register (67 FR 70047, 11/20/2002 and 68 FR 5270, 2/3/03) and the application has been processed pursuant to the FTZ Act and the Board's regulations; and,

Whereas, the Board adopts the findings and recommendations of the examiner's report, and finds that the requirements of the FTZ Act and the Board's regulations are satisfied, and that the proposal, as amended, is in the public interest;

Now, therefore, the Board hereby orders:

The application to expand FTZ 2, as amended, is approved, subject to the Act and the Board's regulations, including Section 400.28.

Signed at Washington, DC, this 30th day of Decemeber 2003.
James J. Jochum,
Assistant Secretary of Commerce for Import Administration, Alternate Chairman, Foreign-Trade Zones Board.
Attest:
Dennis Puccinelli,
Executive Secretary.

[FR Doc. 04-701 Filed 1-12-04; 8:45 am]

BILLING CODE 3510-DS-P